NATIONAL AERONAUTICS AND SPACE ADMINISTRATION

[Notice 22-104]

Name of Information Collection: NASA International Space Apps Challenge 2023 Navigator and Collaborator Applications

AGENCY: National Aeronautics and Space Administration (NASA).

ACTION: Notice of new information collection.

SUMMARY: The National Aeronautics and Space Administration, as part of its continuing effort to reduce paperwork and respondent burden, invites the general public and other Federal agencies to take this opportunity to comment on proposed and/or continuing information collections.

DATES: Comments are due by February 27, 2023.

ADDRESSES: Written comments and recommendations for this information collection should be sent within 60 days of publication of this notice to www.reginfo.gov/public/do/PRAMain. Find this particular information collection by selecting “Currently under 60-day Review—Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-3292, or b.edwards-bodmer@nasa.gov.

SUPPLEMENTARY INFORMATION:

I. Abstract

This collection of information supports NASA's International Space Apps Challenge, an international hackathon for coders, scientists, designers, storytellers, makers, builders, technologists, and others, where teams can engage with NASA's free and open data to address challenges we face on Earth and in space. This collection will consist of two applications, one for Navigators and one for Collaborators.

Navigators are Space Apps community members who have demonstrated excellence in the program or excellence in relevant fields including, but not limited to: science, data, technology, and space. By recognizing these exemplary community members as Navigators, the hackathon connects the tens of thousands of Space Apps participants with community expertise that can enhance participant problem solving. To be eligible to be a Navigator, applicants must have participated in Space Apps in some way (e.g., participant or Local Lead) at least 5 times, or demonstrated equivalent relevant experience in another NASA program.

Each year organizations around the world come forth to engage with NASA's International Space Apps Challenge. We collaborate with a selection of these organizations, called Space Apps Collaborators, to:

• Increase awareness of NASA's International Space Apps Challenge

• Attract a diversity of participants to NASA's International Space Apps Challenge

• Provide participants with optional tools and resources that enable the creation of solutions in NASA's International Space Apps Challenge

This information will be used by the Space Apps Global Organizing Team during the Navigator and Collaborator selection process (approx. 3 months), to gain insight into the applicants' background, experience, and interest in the program. Additionally, this information will be used by NASA's Office of General Counsel (OGC) and NASA's Office of International and Interagency Relations (OIIR) in their review of applicants.

II. Methods of Collection

Electronic.

III. Data

Title: NASA International Space Apps Challenge 2023 Navigator Application.

OMB Number:

Type of review: New.

Affected Public: Individuals.

Estimated Annual Number of Activities: 2.

Estimated Number of Respondents per Activity: 50.

Annual Responses: 100.

Estimated Time per Response: 20 minutes.

Estimated Total Annual Burden Hours: 33.

Estimated Total Annual Cost: $21,000.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Cheryl Parker,
Federal Register Liaison Officer.

[FR Doc. 2022-28342 Filed 12-28-22; 8:45 am]

BILLING CODE 7510-13-P